DEPARTMENT OF JUSTICE

[OMB Number 1125-0009]

Agency Information Collection Activities; Proposed eCollection eComments Requested; Extension of a Previously Approved Collection; Application for Suspension of Deportation (EOIR-40)

AGENCY: Executive Office for Immigration Review, Department of Justice.

ACTION: 60-Day notice.

SUMMARY: The Department of Justice (DOJ), Executive Office for Immigration Review (EOIR), will be submitting the following information collection request to the Office of Management and Budget (OMB) for review and approval in accordance with the Paperwork Reduction Act of 1995.

DATES: Comments are encouraged and will be accepted for 60 days until January 21, 2025.

FOR FURTHER INFORMATION CONTACT: If you have additional comments especially on the estimated public burden or associated response time, suggestions, or need a copy of the proposed information collection instrument with instructions or additional information, please contact Laeticia Mukala-Nirere, Attorney Advisor, Office of the General Counsel, Executive Office for Immigration Review, 5107 Leesburg Pike, Suite 2600, Falls Church, VA 22041, telephone: (703) 305-0470, EOIR.PRA.Comments@usdoj.gov or Kabina.L.Mukala-Nirere@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Certain individuals who are deportable from the United States may be eligible to request that the Attorney General suspend their deportation and adjust their status under former section 244 of the Immigration and Nationality Act (INA). See also 8 CFR 1240.55 (2024). An applicant seeking suspension of deportation may file Form EOIR-40 based on the individual facts and circumstances in his/her case. To be granted such relief from deportation, the applicant must prove that s/he meets all the statutory prerequisites for such relief and that s/he is entitled to a favorable exercise of discretion. The form contains information, such as identifying characteristics, residence, employment history and family information, which is necessary for the Attorney General to determine the statutory eligibility of individual noncitizens, who have been determined to be deportable from the United States, for suspension of their deportation pursuant to former section 244 of the INA.

Overview of This Information Collection

1. Type of Information Collection: Renewal, with change, of a currently approved collection. EOIR is making a few non-substantive changes to the current Form EOIR-40, to include typographical and grammatical edits, adding appropriate spacing between words, and removing unnecessary spacing and symbols between words. EOIR is also making several minor but substantive changes to the current Form EOIR-40, to include removing the word “alien” from the document, and replacing it with the word “noncitizen”; clarifying the description of the dimension of an applicant's facial image for passport photographs; modifying the sentence explaining the purpose and instructions of this form; adding “other” as an alternate option for gender identity; changing the word “home” phone number to “cell” phone number; and including a privacy act statement.

2. The Title of the Form/Collection: Application for Suspension of Deportation.

3. The agency form number, if any, and the applicable component of the Department sponsoring the collection: The form number is EOIR-40; the sponsoring component is Executive Office for Immigration Review, United States Department of Justice.

4. Affected public who will be asked or required to respond, as well as the obligation to respond: Primary: Individual noncitizens determined to be deportable from the United States. Other: None. Abstract: This information collection is necessary to determine the statutory eligibility of individual noncitizens, who have been determined to be deportable from the United States, for suspension of their deportation pursuant to former section 244 of the INA and 8 CFR 1240.55 (2011).

5. An estimate of the total number of respondents and the amount of time estimated for an average respondent to respond: It is estimated that 147 respondents will complete the form annually with an average of 5 hour and 45 minutes per response.

6. An estimate of the total annual burden (in hours) associated with the collection: The estimated public burden associated with this collection is 845.25 hours. It is estimated that respondents will take 5 hour and 45 minutes to complete the form.

7. An estimate of the total annual cost burden associated with the collection, if applicable:

Total Burden Hours
Activity | Number of respondents | Frequency (annually) | Total annual responses | Time per response (hours) | Total annual burden (hours)
Title | 147 | 1 | 147 | 5.75 | 845.25
Unduplicated Totals |  |  |  |  |

If additional information is required contact: Darwin Arceo, Department Clearance Officer, United States Department of Justice, Justice Management Division, Policy and Planning Staff, Two Constitution Square, 145 N Street NE, 4W-218, Washington, DC.

Dated: November 15, 2024.
Darwin Arceo,
Department Clearance Officer for PRA, U.S. Department of Justice.

[FR Doc. 2024-27075 Filed 11-19-24; 8:45 am]

BILLING CODE 4410-30-P